DEPARTMENT OF THE INTERIOR

Bureau of Land Management

[BLM_CO_FRN_MO4500179563]

Notice of Intent To Establish Recreation Fees in the Uncompahgre Field Office, Colorado

AGENCY: Bureau of Land Management, Interior.

ACTION: Notice of intent.

SUMMARY: Pursuant to the Federal Lands Recreation Enhancement Act (FLREA), the Bureau of Land Management (BLM), Uncompahgre Field Office (UFO) intends to establish fee areas and to collect recreation fees at five existing campgrounds, three proposed campgrounds, and eight day-use recreation sites located within the UFO administrative boundaries in Delta, Gunnison, Mesa, Montrose, Ouray, and San Miguel Counties, Colorado.

DATES: New fees will take effect on May 21, 2025, unless the BLM publishes a Federal Register Notice to the contrary.

ADDRESSES: Documents concerning this fee proposal may be reviewed at the Uncompahgre Field Office, 2465 South Townsend Ave., Montrose, CO 81401; phone: (970) 240-5310; and online at: https://www.blm.gov/programs/recreation/permits-and-fees/business-plans.

FOR FURTHER INFORMATION CONTACT: Caroline Kilbane, Outdoor Recreation Planner, at the Uncompahgre Field Office, telephone: 970-240-5310, email: ckilbane@blm.gov. Individuals in the United States who are deaf, deafblind, hard of hearing, or have a speech disability may dial 711 (TTY, TDD, or TeleBraille) to access telecommunications relay services for contacting the BLM. Individuals outside the United States should use the relay services offered within their country to make international calls to the point-of-contact in the United States.

SUPPLEMENTARY INFORMATION: Consistent with FLREA, the intent of recreation fees is to help protect natural resources, provide for public health and safety, and facilitate access to public lands and related waters, and not to maximize fee revenue. Fees are a way of ensuring that those who actively use recreation opportunities make a greater, but reasonable, contribution toward protecting and enhancing those opportunities than those who do not utilize recreational opportunities.

FLREA directs the Secretary of the Interior to publish a 6-month advance notice in the Federal Register whenever new recreation fee areas are established. In accordance with BLM policy, the Business Plan for the UFO explains the fee collection process and how fees will be used at these sites.

The BLM intends to assess an expanded amenity fee of $12 per night per site at five developed campgrounds (Lower Beaver, Caddis Flats, Fall Creek, Ledges Cottonwood, and Ledges Rockhouse) and at three proposed campgrounds (Electric Hills Rim, Nucla, and Paradox), and to assess a standard amenity fee of $4 per vehicle per day at eight day-use recreation sites located within the UFO administrative boundaries in Delta, Gunnison, Mesa, Montrose, Ouray, and San Miguel Counties, Colorado. A vehicle is defined as legal transportation used to access the site (e.g., car, truck, motorcycle, van, or other wheeled conveyance). In addition, the BLM plans to offer a site-specific Standard Amenity Pass/Annual Day-Use Pass for all day-use sites in the UFO of $20 per year. The campgrounds will provide the expanded amenities, and the day-use sites will provide the standard amenities, necessary for the establishment and collection of fees prior to fee collection. The fees will assist the BLM in meeting recreation and visitor service goals within the UFO and promote consistency in management for recreational visitors and interested publics. Any areas where dispersed/undeveloped camping is permitted would continue to be available throughout the UFO without a reservation or fee.

To stay current with rising management and maintenance costs, the BLM will utilize the Western U.S. Consumer Price Index (CPI) to determine future fee adjustments. The Western U.S. CPI is published online monthly and annually in January at: https://www.bls.gov/cpi/regional-resources.htm. Every January after fee implementation begins, the BLM would use the yearly CPI average to determine consistent fees for the campgrounds and day use sites. When the CPI increase or decrease equates to a $2 incremental change for campsite fees or $1 incremental change for per vehicle day use fees, then the fees would be adjusted accordingly. This measure would result in a sustainable and consistent funding source that would increase assurances for users that the program could continue to provide regular maintenance and necessary capital improvements into the future.

If the UFO decides to make reservation services or other types of e-commerce options available in the future, an expanded amenity fee for reservation services would be charged in addition to any other standard or expanded amenity fees in accordance with 16 U.S.C. 6802(g)(2)(G). The expanded amenity fee is subject to contracting requirements and will be adjusted with contract changes or with future updates to the business plan.

People holding an America the Beautiful Pass—The National Parks and Federal Recreational Lands Senior Pass or Access Pass, or a Golden Age or Golden Access Passport, would be entitled to a 50 percent fee reduction on all expanded amenity fees. A public comment period on the draft business plan, announced by news release, ran from August 12, 2024, to September 16, 2024. In accordance with FLREA guidelines, the BLM presented the draft business plan to the Southwest Resource Advisory Council (RAC) at its September and December 2022 meetings, which was followed by robust discussion. The RAC will review the final draft business plan and public comments received and make a recommendation at its next meeting.

(Authority: 16 U.S.C. 6803(b) and 43 CFR part 2933)

Douglas J. Vilsack,
BLM Colorado State Director.

[FR Doc. 2024-27271 Filed 11-20-24; 8:45 am]

BILLING CODE 4331-16-P